FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 7, 2007.

A. Federal Reserve Bank of Chicago (Burl Thornton, Assistant Vice President) 230 South LaSalle Street, Chicago, Illinois 60690-1414:

1. Randall R. Schwartz, Orland Park, Illinois; Susan M. Schwartz, Orland Park, Illinois; Richard H. Schwartz, Lemont, Illinois; Esther V. Schwartz, Lemont, Illinois; Clarence J. Ludwig, Sarasota, Florida; Mary Lou Ludwig, Sarasota, Florida; William D. Ludwig, Lincoln, Nebraska, Linda S. Macaskill, Sarasota, Florida; and John D. Macaskill, Sarasota, Florida; to retain at least 25 percent of the voting shares of First Personal Financial Corp., Orland Park, Illinois, and thereby indirectly retain voting shares of First Personal Bank, Orland Park, Illinois.

B. Federal Reserve Bank of Kansas City (Donna J. Ward, Assistant Vice President) 925 Grand Avenue, Kansas City, Missouri 64198-0001:

1. Richard W. Willhour, Jr., Inola, Oklahoma; and Tommy L. Woods, Tulsa, Oklahoma, to individually control, and by Richard W. Willhour, Jr., Inola, Oklahoma; Tommy L. Woods, Thomas J. O'Brien, Matthew Q. Klimisch, and John R. Woolman, all of Tulsa, Oklahoma; Stephen M. Murphy and Curtis L. Roberts, both of Jenks, Oklahoma, all acting as a group in concert to acquire voting shares of CNBO Bancorp, Inc., Pryor, Oklahoma, and thereby indirectly acquire voting shares of Century National Bank of Oklahoma, Pryor, Oklahoma.

Board of Governors of the Federal Reserve System, April 17, 2007.
Robert deV. Frierson,
Deputy Secretary of the Board.

[FR Doc. E7-7538 Filed 4-19-07; 8:45 am]

BILLING CODE 6210-01-S